DEPARTMENT OF HOMELAND SECURITY

Federal Emergency Management Agency

[Docket ID FEMA-2024-0002; Internal Agency Docket No. FEMA-B-2406]

Proposed Flood Hazard Determinations

In notice document 2024-3265 beginning on page 12367 in the issue of Friday, February 16, 2024, make the following correction:

On page 12367, in the second column, under the DATES heading, in the second line “February 16, 2024” should read “May 16, 2024”.

[FR Doc. C1-2024-03265 Filed 3-4-24; 8:45 am]

BILLING CODE 1505-01-D